FEDERAL COMMUNICATIONS COMMISSION

Notice of Public Information Collection(s) Being Reviewed by the Federal Communications Commission, Comments Requested

June 23, 2008.

SUMMARY: The Federal Communications Commission, as part of its continuing effort to reduce paperwork burdens, invites the general public and other Federal agencies to take this opportunity to (PRA) of 1995 (PRA), Public Law No. 104-13. An agency may not conduct or sponsor a collection of information unless it displays a currently valid control number. Subject to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before August 26, 2008. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION: OMB Control Number: 3060-0061.

Title: Annual Report of Cable Television Systems.

Form Number: FCC Form 325.

Type of Review: Revision of a currently approved collection.

Respondents: Business and other for-profit.

Number of Respondents and Responses: 1,200 respondents; 1,200 responses.

Estimated Time per Response: 2.166 hours.

Frequency of Response: Annual reporting requirement.

Obligation to Respond: Required to obtain or retain benefits. The statutory authority for this information collection is contained in Sections 4(i), 601 and 602 of the Commissions Act of 1934, as amended.

Total Annual Burden: 2,599 hours.

Total Annual Costs: None.

Privacy Impact Assessment: No impact(s).

Nature and Extent of Confidentiality: There is no need for confidentiality.

Needs and Uses: The Commission made revisions/refinements to FCC Form 325 to accommodate systems using technologies other than coaxial cable (Section II,4). Previously, the number of these filers was very small. Now the portion of the sample is becoming significant. These revisions/refinements to Form 325 will allow the form to be filed electronically by these filers, avoiding a significant cost. Refinements are also made to the form to eliminate instances where potential subscribers are double counted (Section II,2). This occurs where a competing system enters the market and reports as such. These refinements impose no significant new requirement and will reduce aggregate filing costs by simplifying filing for overbuilders and permitting electronic filing for the increasing number of competing service providers.

The FCC uses Form 325 “Annual Report of Cable Television” to solicit basic operational information from a sample of cable systems nationwide, including: the operator's name and address; system-wide capacity and frequency information; channel usage; and number of subscribers. Operators of every operational cable television system are required to complete the form to verify, correct and/or furnish the Commission with the most current information on their respective cable systems.

Federal Communications Commission.
Marlene H. Dortch,
Secretary.

[FR Doc. E8-14640 Filed 6-26-08; 8:45 am]

BILLING CODE 6712-01-P